CONSUMER PRODUCT SAFETY COMMISSION

[Docket No. CPSC-2023-0033]

Per- and Polyfluoroalkyl Substances (PFAS) in Consumer Products

AGENCY: Consumer Product Safety Commission.

ACTION: Notice of availability and request for information.

SUMMARY: The Consumer Product Safety Commission (Commission or CPSC) is publishing this notice to request information on per- and polyfluoroalkyl substances (PFAS) used in commerce or potentially used in consumer products, potential exposures associated with the use of PFAS in consumer products, and potential human health effects associated with exposures to PFAS from their use in consumer products. This notice also includes the availability information of a related contractor report.

DATES: Written comments must be submitted by November 20, 2023.

ADDRESSES: You can submit comments, identified by Docket No. CPSC-2023-0033, by any of the following methods:

Electronic Submissions: Submit electronic comments to www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments by using www.regulations.gov. You may, however, submit comments by mail, hand delivery, or courier to: Office of the Secretary, Consumer Product Safety Commission, 4330 East-West Highway, Bethesda, MD 20814; telephone: (301) 504-7479.

Instructions: All submissions must include the agency name and docket number. CPSC may post all comments without change, including any personal identifiers, contact information, or other personal information provided to www.regulations.gov. If you wish to submit confidential business information, trade secret information, or other sensitive or protected information that you do not want to be available to the public, you may submit such comments by mail, hand delivery, or courier, or you may email them to: cpsc-os@cpsc.gov.

Docket: For access to the docket to read background documents or comments received, go to www.regulations.gov, and insert the docket number, CPSC-2023-0033, into the “Search” box, and follow the prompts. The report (Characterizing PFAS Chemistries, Sources, Uses, and Regulatory Trends in U.S. and International Markets) is available in the docket, under “Supporting and Related Material” on the Commission's website at https://www.cpsc.gov/content/CPSC-PFAS-WhitePaper, and from the CPSC's Office of the Secretary.

FOR FURTHER INFORMATION CONTACT: Charles Bevington, Directorate for Health Sciences, U.S. Consumer Product Safety Commission, 5 Research Place, Rockville, MD 20850; telephone: (301) 987-2009; email: cbevington@cpsc.gov.

SUPPLEMENTARY INFORMATION:

I. Background

PFAS are manufactured chemicals that contain multiple fluorine atoms attached to carbon chains. There is no single, universally accepted definition of PFAS or authoritative list of substances, although some researchers and organizations have published preferred definitions or have generated such lists. The U.S. Environmental Protection Agency (EPA) and other data sources indicate that there are thousands of different PFAS that could be registered on U.S. or global chemical inventories and are potentially in commerce, hundreds of PFAS with reported use information from the U.S. or international sources, and several dozen PFAS that are more commonly measured in consumer products, the environment, or in people. PFAS have a variety of applications, including in non-stick cookware; water-repellent and stain resistant clothing, carpets and other fabrics; some cosmetics; some firefighting foams; and common home products such as cleaning supplies, waxes, coatings, adhesives, paints, and sealants. This Request for Information concerns “consumer products” which includes products used in or around the home or school that are subject to CPSC jurisdiction under the Consumer Product Safety Act (CPSA), 15 U.S.C. 2051 et seq., Federal Hazardous Substances Act, 15 U.S.C. 1261 et seq., and other statutes administered by CPSC. Cosmetics, drugs, and pesticides generally are not within CPSC's jurisdiction under the CPSA.

PFAS can move through the environment, and they break down very slowly. They are commonly referred to as “forever chemicals.” ¹ Consumer products containing PFAS contribute to aggregate exposures through mediated (e.g., ingestion of indoor dust and inhalation of indoor air) and contact (e.g., mouthing of products and direct dermal transfer) exposure pathways. Consumer products containing PFAS also contribute to aggregate exposures through releases to the environment from manufacturing and processing of PFAS and formulation and disposal of consumer products containing PFAS (e.g., ingestion of drinking water).

¹ PFAS are persistent in the environment and can bioaccumulate in organisms. There is variability in the persistence of different PFAS in various environmental media and biological matrices.

Currently in the United States, local jurisdictions, states, and other federal agencies, including the EPA, U.S. Food and Drug Administration (FDA), and U.S. Department of Agriculture are studying PFAS occurrences, human exposures, and health effects that are largely associated with environmental exposures (e.g., contaminated drinking water, food chain). In March 2023, the White House Office of Science and Technology Policy (OSTP) released a PFAS Report informed by a Request for Information and developed in collaboration with many federal agencies.² That report provides a comprehensive and recent summary of known data and research gaps in four areas: removal, destruction, or degradation of PFAS, safer alternatives, source and pathways of exposure, and toxicity. This request for information by CPSC is solely focused on potential use or presence of PFAS in consumer products, potential human exposures associated with consumer product use, and potential adverse human health effects associated with consumer product use.

² The report (Per- and Polyfluoroalkyl Substances (PFAS) Report | A Report by the Joint Subcommittee on Environment, Innovation, and Public Health) is available at https://www.whitehouse.gov/wp-content/uploads/2023/03/OSTP-March-2023-PFAS-Report.pdf.

CPSC contracted with RTI International (Contract No. GS-00F-354CA, Order No. 61320622F0078) to complete an overview of PFAS with a focus on PFAS that are potentially used or present in consumer products. The main objectives of the contract were to (1) broadly characterize PFAS and identify the uses and applications of PFAS in consumer products, identify significant individual PFAS with known or potential consumer product applications, and identify trends associated with production and use of PFAS in consumer products; (2) identify international, federal, state, and local regulations or restrictions for individual or grouped PFAS; and (3) summarize recent hazard (toxicity), exposure, or risk assessments that have been completed by authoritative bodies.

The completed RTI report,³ CPSC staff's statement on the report,⁴ and the accompanying appendices and database files ⁵ provide this information, describe some data gaps, limitations, and uncertainties, and identify possible next steps.

³ The report (Characterizing PFAS Chemistries, Sources, Uses, and Regulatory Trends in U.S. and International Markets) is available in the docket and at https://www.cpsc.gov/content/CPSC-PFAS-WhitePaper.

⁴ The statement (CPSC Staff Statement on: Characterizing PFAS Chemistries, Sources, Uses, and Regulatory Trends in the U.S. and International Markets) is available in the docket and at https://www.cpsc.gov/content/PFAS-Market-Use-Cover-Memo.

⁵ The file names and descriptions of appendices and databases contained in supporting files are described in CPSC Staff's Statement. Appendices and supporting files are available in the docket and at https://www.cpsc.gov/Research--Statistics/Chemicals.

The completed contractor report and associated materials are available at: https://www.regulations.gov under docket number CPSC-2023-0033, on the Commission's website at https://www.cpsc.gov/Research--Statistics/Chemicals under the heading “Per- and Polyfluoroalkyl Substances (PFAS”), and from the CPSC's Office of the Secretary at the location listed in the ADDRESSES section of this notice.

This request for information (RFI) seeks input from the public on PFAS and potential uses or presence of PFAS in consumer products, potential human exposures associated with consumer product use, and potential adverse human health effects associated with consumer product use. This RFI does not constitute or propose regulatory action, but rather is intended to inform the Commission and the public.

II. Information Requested

CPSC is requesting information from all stakeholders such as consumers, manufacturers and importers, government agencies, non-governmental organizations, and researchers. Please provide information focused on consumer products and with consideration for the information already available to CPSC in the contract report and associated supporting files. The contractor report is not a risk assessment and did not identify all potential data sources that could be used for risk assessment.

CPSC is particularly requesting information on PFAS and potential use or presence of PFAS in consumer products, potential human exposures to PFAS associated with consumer product use including information about potentially highly exposed population groups, and potential adverse human health effects informed by toxicological data sources. The Commission seeks comment on all significant aspects of this issue, including but not limited to the following questions.

Use or Potential Use of PFAS in Consumer Products

1. Please provide information about the definition of PFAS, including which chemical substances should be considered a perfluoroalkyl or polyfluoroalkyl substance, which chemical substances should be excluded from consideration as a PFAS, and which PFAS are considered in commerce.

2. Please identify specific PFAS potentially used or present in consumer products that are not already included in the contract report and related supporting files. For each PFAS chemical identified, specify relevant consumer product(s) and/or use categories.

3. Please provide information about which specific PFAS the CPSC should prioritize in assessments of potential uses or presence of PFAS in consumer products.

4. Please provide information about which specific consumer products CPSC should prioritize in assessments of potential uses or presence of PFAS.

5. Please provide information about consumer products or materials used in consumer products that may be sources of PFAS.

5a. For intentional uses of PFAS, please provide information on: Chemical identity and physical form (solid, liquid, gas, semi-solid); Functional purpose of the PFAS; and measurements or estimates of levels/concentration of PFAS used in consumer products.

5b. Where PFAS may be present in consumer products other than for intentional, functional uses (such as manufacturing or environmental contaminants), please provide information on sources of contaminants; chemical identity and physical form; degradation of substances or materials in consumer products to PFAS; and measurements or estimates of levels/concentration of PFAS in consumer products other than from intentional uses.

Potential Human Exposures to PFAS Associated With Consumer Products Use, Including Information About Potentially Highly Exposed Population Groups

6. Please provide information related to the emission of PFAS from consumer products into the indoor environment. For example, studies or data that estimate emission rates or mass transfer parameters of PFAS chemicals from consumer products or materials.

7. Please provide information related to the migration of PFAS from consumer products into saliva, gastrointestinal fluid, or skin. For example, studies or data that estimate migration rates into biological fluids or surfaces based on sustained contact time.

8. Please provide information about the potential for exposure and risk from presence of PFAS in consumer products (including contact exposures from direct use of consumer products and mediated exposures such as through emission of PFAS from products to surfaces, indoor dust, or indoor air). Please provide:

8a. Data related to specific exposure pathways from consumer product sources and associated data or estimates of occurrence of PFAS in environmental media;

8b. Data on measurements or estimates of PFAS intake, uptake, clearance, half-life, or occurrence in people (biomonitoring); and

8c. Data on the relative source contribution of consumer product(s) or ingestion of indoor dust, or inhalation of indoor air compared with other relevant sources such as ingestion of drinking water or ingestion of food associated with estimates of aggregate exposures.

9. Please provide information about population groups that may use certain consumer products for a greater than average magnitude, frequency, or duration based on habits, practices, and characteristics specific to that population group.

Potential Adverse Human Health Effects Informed by Toxicological Data

10. Please provide reports and underlying data for data sources that could inform whether individual PFAS or subclasses or categories of PFAS have potential for adverse human health effects. This includes human or animal studies that report the relationship between known exposures and observed effects. This also includes new approach methodology studies such as in-vitro assays or in-silico predictions that report the relationship between known exposures and observed biological activities related to health effects.

11. Please provide information on additional sources of data and other information that CPSC should consider that are not already included or mentioned in the contract report and associated data files.

If you wish to submit confidential information in response to this RFI, please follow the instructions in the ADDRESSES section above.

Alberta E. Mills,
Secretary, Consumer Product Safety Commission.

[FR Doc. 2023-20332 Filed 9-19-23; 8:45 am]

BILLING CODE 6355-01-P